FEDERAL COMMUNICATIONS COMMISSION

[ET Docket No. 04-186 and 02-380; DA 11-131]

Unlicensed Operation in the TV Broadcast Bands

AGENCY: Federal Communications Commission.

ACTION: Notice.

SUMMARY: In this document the Office of Engineering and Technology conditionally designate nine entities—Comsearch, Frequency Finder Inc., Google Inc., KB Enterprises LLC and LS Telcom, Key Bridge Global LLC, Neustar Inc., Spectrum Bridge Inc., Telcordia Technologies, and WSdb LLC—as TV bands device database administrators. The TV bands databases will be used by fixed and personal portable unlicensed devices to identify unused channels that are available at their geographic locations. This action will allow the designated administrators to develop the databases that are necessary to enable the introduction of this new class of broadband wireless devices in the TV spectrum.

DATES: Amended proposals must be filed on or before February 28, 2011; and an Initial Workshop to be held March 10, 2011 at the Columbia Laboratory.

FOR FURTHER INFORMATION CONTACT: Hugh L. Van Tuyl at (202) 418-7056 or Alan Stillwell at (202) 418-2925 or via the Internet at Hugh.VanTuyl@fcc.gov or Alan.Stillwell@fcc.gov, TTY (202) 418-2989.

ADDRESSES: You may submit comments, identified by ET Docket No. 04-186, by any of the following methods:

• Federal eRulemaking Portal: http://www.regulations.gov. Follow the instructions for submitting comments.

• Federal Communications Commission's Web Site: http://www.fcc.gov/cgb/ecfs/. Follow the instructions for submitting comments.

• E-mail: [Optional: Include the E-mail address only if you plan to accept comments from the general public.] Include the docket number(s) in the subject line of the message.

• Mail: [Optional: Include the mailing address for paper, disk or CD-ROM submissions needed/requested by your Bureau or Office. Do not include the Office of the Secretary's mailing address here.]

• People With Disabilities: Contact the FCC to request reasonable accommodations (accessible format documents, sign language interpreters, CART, etc.) by e-mail: FCC504@fcc.gov or phone: 202-418-0530 or TTY: 202-418-0432.

For detailed instructions for submitting comments and additional information on the rulemaking process, see the supplementary information of this document.

SUPPLEMENTARY INFORMATION: This is a summary of the Commission's Order, ET Docket No. 04-186 and 02-380, DA 11-131, adopted January 26, 2011 and released January 26, 2011. The full text of this document is available for inspection and copying during normal business hours in the FCC Reference Center (Room CY-A257), 445 12th Street, SW., Washington, DC 20554. The complete text of this document also may be purchased from the Commission's copy contractor, Best Copy and Printing, Inc., 445 12th Street, SW., Room, CY-B402, Washington, DC 20554. The full text may also be downloaded at: http://www.fcc.gov. Pursuant to §§ 1.415 and 1.419 of the Commission's rules, 47 CFR 1.415, 1.419.

Filing Instructions

The TV bands database is the subject of a docketed proceeding, ET Docket No. 04-186, and responses to this Order may be filed using the FCC's Electronic Comment Filing System (ECFS) as described below. A simplified interface for ECFS has been implemented to facilitate consumer comment. Documents filed on ECFS may be accessed and reviewed on that system, which contain copies of written submissions and summaries of oral submissions regarding the white spaces proceeding.

Parties must file responses with the Commission on or before the date indicated on the first page of this document. All such filings should refer to ET Docket No. 04-186. Proposals may be filed using: (1) The Commission's Electronic Comment Filing System (“ECFS”), (2) the Federal Government's eRulemaking Portal, or (3) by filing paper copies. See Electronic Filing of Documents in Rulemaking Proceedings, 63 FR 24121 (1998).

• Electronic Filers: Comments may be filed electronically using the Internet by accessing the ECFS: http://fjallfoss.fcc.gov/ecfs2/ or the Federal eRulemaking Portal: http://www.regulations.gov.

• Paper Filers: Parties who choose to file by paper must file an original and four copies of each filing. If more than one docket or rulemaking number appears in the caption of this proceeding, filers must submit two additional copies for each additional docket or rulemaking number.

Filings can be sent by hand or messenger delivery, by commercial overnight courier, or by first-class or overnight U.S. Postal Service mail. All filings must be addressed to the Commission's Secretary, Office of the Secretary, Federal Communications Commission.

• All hand-delivered or messenger-delivered paper filings for the Commission's Secretary must be delivered to FCC Headquarters at 445 12th St., SW., Room TW-A325, Washington, DC 20554. The filing hours are 8 a.m. to 7 p.m. All hand deliveries must be held together with rubber bands or fasteners. Any envelopes must be disposed of before entering the building. Parties should also send a copy of their filings to Hugh L. VanTuyl, Office of Engineering and Technology, Federal Communications Commission, Room 7-A162, 445 12th Street, SW., Washington, DC 20554, or by e-mail to Hugh.VanTuyl@fcc.gov. Parties must also serve one copy with the Commission's copy contractor, Best Copy and Printing, Inc. (BCPI), Portals II, 12th Street, SW., Room CY-B402, Washington, DC 20554, (202) 488-5300, or vial e-mail to fcc@bcpi.com.

• Commercial overnight mail (other than U.S. Postal Service Express Mail and Priority Mail) must be sent to 9300 East Hampton Drive, Capitol Heights, MD 20743.

• U.S. Postal Service first-class, Express, and Priority mail must be addressed to 445 12th Street, SW., Washington, DC 20554.

Summary of Order

1. In this Order the Office of Engineering and Technology (OET) conditionally designates nine entities—Comsearch, Frequency Finder Inc., Google Inc., KB Enterprises LLC and LS Telcom, Key Bridge Global LLC, Neustar Inc., Spectrum Bridge Inc., Telcordia Technologies, and WSdb LLC—as TV bands device database administrators, subject to conditions described herein. The TV bands databases will be used by fixed and personal portable unlicensed devices to identify unused channels that are available at their geographic locations. This action will allow the designated administrators to develop the databases that are necessary to enable the introduction of this new class of broadband wireless devices in the TV spectrum.

2. On September 23, 2010, the Commission adopted a Second Memorandum Opinion and Order (Second MO&O) in ET Docket No. 04-186, 75 FR 75814, December 6, 2010, that updated the rules for unlicensed wireless devices that can operate in broadcast television spectrum at locations where that spectrum is unused by licensed services. This unused TV spectrum is commonly referred to as television “white spaces.” The rules allow for the use of unlicensed TV bands devices in the unused spectrum to provide broadband data and other services for consumers and businesses.

3. To prevent interference to authorized users of the TV bands, TV bands devices must include a geo-location capability and the capability to access a database that identifies incumbent users entitled to interference protection, including, for example, full power and low power TV stations, broadcast auxiliary point-to-point facilities, PLMRS/CMRS operations on channels 14-20, and the Offshore Radiotelephone Service. The database will tell a TV band device which TV channels are vacant and can be used at its location. The database also will be used to register the locations of fixed TV band devices and protected locations and channels of incumbent services that are not recorded in Commission databases. The rules state that the Commission will designate one or more entities to administer a TV bands database.

4. OET released a public notice on November 25, 2009 inviting entities interested in being designated as a TV bands database administrator to file proposals with the Commission and inviting comments on the proposals. The notice requested that entities address how the basic components of a TV band database(s) as required by the Commission's rules would be satisfied—i.e., a data repository, a data registration process, and a query process—and whether the entity sought to provide all or only some of these functions and affirm that the database service will comply with all of the applicable rules. In particular, interested parties were requested to show: (1) The entity's technical expertise to administer a TV band database and its business plan to operate it for a five-year term, (2) the scope of the database functions the entity intends to perform and how it would synchronize data between multiple databases, (3) diagrams of the architecture of the database system and a detailed description of how each function operates and interacts with the other functions, (4) information on any other entities performing database functions and the business relationship between itself and these other entities, and (5) the methods that will be used by TV bands devices to communicate with the database, the procedures that it plans to use to verify that a device can properly communicate with the database, and the security methods that will be used to ensure that unauthorized parties can not access or alter the database.

5. OET received proposals from nine parties in response to this notice: Comsearch, Frequency Finder Inc., Google Inc., KB Enterprises LLC and LS Telcom, Key Bridge Global LLC, Neustar Inc., Spectrum Bridge Inc., Telcordia Technologies, and WSdb LLC. Fifteen parties filed comments in response to the notice and eight parties filed reply comments. A list of parties filing comments is in Appendix A.

6. Subsequent to the notice inviting proposals from prospective database administrators, the Commission adopted the Second MO&O, which generally upheld the Commission's prior decisions on the TV bands device rules. The Second MO&O upheld the Commission's decision to designate multiple database administrators, deciding that it would rely on market forces to shape the structure of the database administration functions and service offerings, subject to the various requirements set forth in the rules. The Commission also decided that, once OET selects the database administrator(s), it will be responsible for oversight and management of the database administrators(s) and their functions. The Second MO&O also made certain changes to the rules with respect the TV bands database. Specifically, it required that communications between TV bands devices, TV bands databases and between multiple databases be secure. The Commission did not require the use of specific technologies to meet these requirements. In addition, the Commission required that all information that the rules require to be in a TV bands database be made publicly available.

Discussion

7. Based upon our review of the proposals and the record before us, OET has designated multiple TV bands database administrators, subject to conditions described. Specifically, OET is conditionally designating each of the applicants—Comsearch, Frequency Finder Inc., Google Inc., KB Enterprises LLC and LS Telcom, Key Bridge Global LLC, Neustar Inc., Spectrum Bridge Inc., Telcordia Technologies, and WSdb LLC—as TV bands database administrators. While the operation of multiple database administrators may present some coordination challenges, OET finds it is in the public interest to have multiple parties developing business models for this new mechanism. The value of this exercise extends beyond databases for the TV bands, as the Commission is also considering employing similar database approaches in other spectrum bands.

8. The Commission employs conditions on our database administrator designations for several reasons. First, the Commission modified some of the requirements for the databases and administrators in the Second MO&O, some time after the database administrator proposals were submitted. Accordingly, OET is designating nine entities as database administrators only on a conditional basis, subject to the requirement, inter alia, that each administrator supplement its previous filings with sufficient detailed information to demonstrate how it will comply with the rule changes adopted in the Second MO&O. Moreover, while OET concludes that each of the applicants has an acceptable degree of technical expertise to administer a database, as well as a viable business plan for operating it for at least five years, it recognizes that this threshold is but the minimum for providing the required services. Employing a more exacting set of qualification requirements, however, would greatly expand the timeframe for selection and reduce opportunities for participation and the potential competition for the subject services. To balance these interests, OET therefore requires each database administrator to coordinate closely with the agency to ensure competency, consistency and compliance with the rules and the database trials.

9. Second, the Commission has determined that the development and implementation of a well functioning system for employing white spaces devices will require significant database oversight and testing. Accordingly, OET will conduct a series of mandatory workshops with the database administrators to address implementation issues and to ensure consistency and compliance with the rules, as described in more detail below. As part of this oversight, OET will identify the tasks that each administrator will have to perform to show compliance with the rules, instruct the administrators on how to implement certain features to ensure compliance, and establish milestone dates for each administrator to submit reports of its progress or otherwise demonstrate compliance. OET also will require real-world testing of databases to ensure that they provide accurate results before they can be made generally available for use by TV bands devices.

10. In the Public Notice, OET asked database administrator proponents to provide information adequate to show that they possess sufficient technical expertise to administer a database, and a viable business plan for operating such a database for five years. Based on the information filed by the conditionally designated administrators, it found that each of them has shown that they have the technical expertise to develop and operate a TV bands database. Moreover, as explained further, none of the concerns raised by any of the commenters in the record before us cause us to question our conclusion that these applicants are capable of meeting all the requirements placed on database administrators by the Commission's rules in the Second Report and Order and as modified in the Second MO&O. Many of the issues raised by commenters were not related to the qualifications of any database administrator applicant. Instead, those commenters raised issues concerning the requirements that should be applied to the databases and administrators. Those issues were addressed in the Second MO&O, and therefore need not be revisited here.

11. Several commenters contend that certain proposals are incomplete or deficient. OET disagrees. Our review of the database applications before us reveals that each application includes all the information specified in the 2009 public notice, and that each applicant is capable of fulfilling all database administrator obligations. OET recognizes that in some cases the information provided was not particularly detailed, but all applicants addressed all of the questions in the public notice. Further, as noted, the database administrators are designated subject to a number of conditions, including that they attend workshops to be conducted by OET and perform real-world testing of their databases to ensure they provide accurate results before they are made available for use by TV bands devices. Thus, our designations are not based solely on the comprehensiveness of the information submitted in the proposals, but also on the ability of the designated administrators to demonstrate that they can construct a working database that complies with all of the requirements in the rules. We therefore decline to reject any of the database administrator applications before us on the basis of alleged deficiencies in the submitted documentation.

12. Key Bridge asserts that Neustar and Google are not neutral or disinterested parties and therefore should not be authorized to administer TV bands databases. It argues that Neustar's business arrangements with Shared Spectrum Corporation, a developer of spectrum sensing and other cognitive radio technologies, demonstrate that it is not a neutral party. It further contends that Google is a prospective manufacturer of TV band devices, and as a database administrator it would be able to collect information such as the make, model, serial number, location and ownership of competitors' equipment. We are not persuaded by Key Bridge's assertions. It is unclear why Neustar's business arrangements with Shared Spectrum Corporation should be a concern, and in any case we note that the Second MO&O eliminated the requirement for TV bands devices with database access to incorporate spectrum sensing technology. As for Google, while it is true that the company would be collecting certain information about competitors' products, the same basic concern applies to all other database administrators as they could make that same information available to manufacturers of TV bands devices. To address this industry-wide concern, we prohibit all database administrators from using the information collected to engage in anti-competitive practices, either by using the information themselves or providing it to third parties. We will oversee the continued database developmental work to ensure that all database administrators comply with requirements in the rules to make service available to all TV bands device users on a non-discriminatory basis.

13. The Coalition of Wireless Microphone Users identifies four proposals where it has a specific issue of concern. Specifically, it is concerned that: (1) Comsearch would make decisions on which entities are eligible to register wireless microphones in the database, (2) Google would not register all types of protected entities specified in the rules, (3) Neustar would require at least a 48-hour lead time for registering wireless microphones, and (4) Telcordia would provide poorer service for TV band device users that do not pay an additional fee, resulting in a higher potential for interference to authorized users of the TV bands. These are implementation concerns that can be addressed by OET in its oversight and management of the database administrators.

14. Finally, some parties question that one or more of the database administrator applicants may not comply with all of the Commission's rules. Those assertions are speculative, and so do not provide a basis for concluding that any applicant is incapable of administering a white spaces database. Furthermore, OET will oversee all the database administrators, and we specifically condition each administrator's designation on meeting all its obligations described in the Order. Thus, failure of an administrator to meet any one of these obligations will constitute grounds for suspending or terminating that administrator's database authority. Similarly, failure of a database administrator to meet any of the requirements set forth in the Commission's rules will subject the administrator to all appropriate enforcement action, including the possibility of sanctions and termination of the administrator designation.

15. We intend to exercise strong oversight of the TV bands databases and administrators. All database administrators must attend workshops at which OET will instruct them on how to comply with the database rules, identify tasks that must be completed by each administrator, and establish milestone dates for reporting progress on or completion of the identified tasks. Each database administrator will designate a responsible party from its organization who will attend the workshops and ensure that the organization complies with all of the conditions listed in the Order. The workshops will be conducted by OET's Laboratory Division. OET will address all implementation details after collecting information from the database administrators in these workshops, and also will provide guidance on the requirements to the database administrators on an as needed basis. The database administrators may decide on their own to meet separately to discuss the various tasks and may include other interested parties in their meetings; however, OET will make final decisions on issues affecting the databases and their operation and all decisions will be publicly available. OET will establish a Web page to post information about and may seek comment on the guidance that it will provide to the administrators. Each database administrator must cooperate with any steps OET deems necessary to ensure that the TV bands databases provide accurate and consistent lists of protected services and available channels. Further, they must support capabilities that OET deems necessary to ensure that any changes in registration of protected facilities in one database are rapidly reflected in all others.

16. The workshops will be a valuable tool for ensuring that each administrator understands the rules and effectively implements them. For example, while the rules do not specify the particular security methods that must be used, the Commission recognizes that security is critically important. Each database manager will be required to demonstrate that it is using robust security features and has established methods to remedy any security threats or breaches. Final approval of the security methods will be made by OET, working in consultation with the FCC Chief Technologist and Chief of the Public Safety and Homeland Security Bureau. OET may draw on other expertise as may be necessary to fully evaluate proposed security methods.

17. Finally, each database will be subject to a trial period of not less than 45 days before it is allowed to be made available for actual use by TV bands devices to allow interested parties an opportunity to check that the database is providing accurate results. A longer trial period may be required if the Commission determines that a database is not in compliance with the Commission's rules. OET will determine the details of each trial, balancing the need to ensure that the database is working properly with the need to avoid an unnecessarily cumbersome and burdensome process.

18. Database administrators that successfully satisfy all of the conditions herein will be allowed to make their databases available for actual use for the five-year term specified in our rules. OET will announce the public availability of each database, at which time the five-year term for that database will commence.

19. In summary, we have considered the database administrator proposals and all the comments and replies filed in response to the 2009 Public Notice. We conclude that all of the database administrator applicants before us are capable of meeting the Commission's regulatory requirements for serving as database administrators, as set forth in the Commission's rules (including the rule revisions adopted in the Second MO&O). Accordingly, we are designating Comsearch, Frequency Finder Inc., Google Inc., KB Enterprises LLC and LS Telcom, Key Bridge Global LLC, Neustar Inc., Spectrum Bridge Inc., Telcordia Technologies, and WSdb LLC as TV bands database administrators subject to the conditions described.

1. Each of the designated database administrators must supplement its previous filings with sufficient detailed information to indicate how it will comply with the rule changes adopted in the Second MO&O. Amendments to proposals must be received by February 28, 2011. Any of the database administrators that filed separate proposals and now wish to consolidate their operations must submit an updated proposal by this same date. Any database administrators that wish to withdraw their proposals must notify the Commission by this same date.

2. All database administrators must attend workshops to be conducted by OET to address the operation of the databases to ensure consistency and compliance with the rules and the database trials, as described herein. Each administrator shall designate a responsible party who will represent its organization at the workshops and also ensure compliance with all of the conditions herein by February 28, 2011. The first workshop is scheduled for March 10, 2011 at the Commission's Laboratory in Columbia, Maryland.

3. Each database administrator must cooperate with any steps OET deems necessary to ensure compliance with the rules, including for example security features.

4. Database administrators must agree that they will not use their capacity as a database manager to engage in any discriminatory or anti-competitive practices or any practices that may compromise the privacy of users.

Ordering Clause

20. Pursuant to the authority contained in sections 4(i), 302, 303(e), 303(f), and 307 of the Communications Act of 1934, as amended, 47 U.S.C. 154(i), 302, 303(c), 303(f), and 307, and §§ 0.31 and 0.241 of the Commission's rules, 47 CFR 0.31, 0.241, Comsearch, Frequency Finder Inc., Google Inc., KB Enterprises LLC and LS Telcom, Key Bridge Global LLC, Neustar Inc., Spectrum Bridge Inc., Telcordia Technologies and WSdb LLC are conditionally designated as TV bands database administrators as set forth in § 15.715 of the Commission's rules, 47 CFR 15.715, subject to the conditions specified.

Julius P. Knapp,
Chief, Office of Engineering and Technology, Federal Communications Commission.

[FR Doc. 2011-2767 Filed 2-7-11; 8:45 am]

BILLING CODE 6712-01-P